DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 22, 2000.

Interested persons are invited to submit written comments regarding the subject matter of the investigations to the Director, Division of Trade Adjustment Assistance, at the address shown below, not later than May 22, 2000.

The petitions filed in this case are available for inspection at the Office of the Director, Division of Trade Adjustment Assistance, Employment and Training Administration, U.S. Department of Labor, 200 Constitution Avenue, NW, Washington, DC 20210.

Signed at Washington, DC this 24th day of April 2000.
Grant D. Beale,
Program Manager, Division of Trade Adjustment Assistance.

Appendix
[Petitions instituted on 04/24/2000]
TA-W | Subject firm (petitioners) | Location | Date of petition | Product(s)
37,593 | Pennzoil—Quaker State (PACE) | Rouseville, PA | 04/10/2000 | Lubricant Fuels.
37,594 | Manchester Manufacturer (Wkrs) | Manchester, OH | 04/11/2000 | Trousers.
37,595 | Humpery's, Inc. (Wkrs) | Chicago, IL | 04/03/2000 | Leather Belts.
37,596 | Bethlehem Corp. (The), (Co.) | Easton, PA | 04/11/2000 | Porcupine Processors.
37,597 | Willamette Industries (Wkrs) | Lebanon, OR | 04/04/2000 | Conveyor Systems, LVL Presses.
37,598 | Hatch, Inc. (Co.) | El Paso, TX | 04/05/2000 | Control Systems Integrators.
37,599 | United States Enrichment (PACE) | Paducah, KY | 04/10/2000 | Uranium Hexaflouride.
37,600 | Trinity Industries (UAW) | Mt. Orab, OH | 04/05/2000 | Rail Cars.
37,601 | Styl-Rite Optics, Inc. (Wkrs) | Miami, FL | 04/10/2000 | Ophthalmic Frames.
37,602 | Wil Gro Fertilizer (Co.) | Pryor, OK | 04/03/2000 | Anhydrous Ammonia.
37,603 | A. Schulman, Inc. (PACE) | Orange, TX | 04/24/2000 | Plastic Products.
37,604 | Coho Resources (Wkrs) | Dallas, TX | 04/06/2000 | Oil and Gas.
37,605 | Hyperion Seating Corp. (Wkrs) | Lewisburg, TN | 04/03/2000 | Car Seats—Front and Rear.
37,606 | Rocky Apparel (Wkrs) | Greenwood, MS | 03/28/2000 | Blue Jeans.
37,607 | Henry I. Siegel (Co.) | Bruceton, TN | 04/12/2000 | Denim Jeans and Sportswear.
37,608 | Concord Fabrics (Wkrs) | New York, NY | 03/30/2000 | Printed Cotton Fabric.
37,609 | TI Group Automotive (Co.) | Valdosta, GA | 03/28/2000 | Engine and Transmission Oil Cooler Lines.
37,610 | Tenk Machine and Tool (Wkrs) | Cleveland, OH | 03/27/2000 | Repair Steel Mill Equipment.
37,611 | T and S Sewing, Inc. (Wkrs) | Hialeah Gardens, FL | 04/04/2000 | Ladies' Blouses and T-Shirts.
37,612 | AST Research, Inc. (Wkrs) | Fort Worth, TX | 04/10/2000 | Desk Top Computers.
37,613 | Sandvik Milford (IAMAW) | Branford, CT | 04/04/2000 | Bandsaw Blades.
37,614 | Imation Corporation (Wkrs) | Oakdale, MN | 04/07/2000 | Electrophoto. Color Printer Components.
37,615 | Mr. Coffee (Co.) | Glenwillow, OH | 04/14/2000 | Coffee and Tea Brewers.
37,616 | Chavez Sings, Inc. (Co.) | El Paso, TX | 03/31/2000 | Custom-Made Signs.
37,617 | Troutman Foundry (Co.) | Statesville, NC | 04/10/2000 | Grey Cast Iron Castings.
37,618 | Minard Run Oil Co. (Wkrs) | Bradford, PA | 04/02/2000 | Natural Gas and Oil.
37,619 | Furniture Crafters (Co.) | Grants Pass, OR | 04/12/2000 | Office Furniture.
37,620 | Johanna York, Inc. (Co.) | New York, NY | 04/14/2000 | Dresses.
37,621 | Westwood Lighting (Co.) | El Paso, TX | 04/17/2000 | Brass Lamps.
37,622 | Milano Fashion Inc. (UNITE) | Passaic, NJ | 04/06/2000 | Ladies' Coats.
37,623 | Lear Corporation (Wkrs) | El Paso, TX | 04/14/2000 | Dies for Crimping Cables.

[FR Doc. 00-11822 Filed 5-10-00; 8:45 am]

BILLING CODE 4510-30-M